DEPARTMENT OF HEALTH AND HUMAN SERVICES

Office of the Assistant Secretary for Planning and Evaluation; Medicaid Reentry Stakeholder Group

AGENCY: Office of the Assistant Secretary for Planning and Evaluation, Department of Health and Human Services.

ACTION: Notice of Establishment of the Medicaid Reentry Stakeholder Group and Request for Nominations.

SUMMARY: The Secretary of HHS has determined that establishment of the Medicaid Reentry Stakeholder Group, as required by the Medicaid Reenty Act, is desirable to provide advice and consultation to the Secretary on innovative strategies to help individuals who are inmates of public institutions, and otherwise eligible for Medicaid, ensure continuity of coverage and seamless transitions back to the community. HHS is soliciting nominations for non-Federal members of the Stakeholder Group.

DATES: Submit nominations by email before COB on October 23, 2020.

ADDRESSES: Nominations should be sent to Jhamirah Howard at jhamirah.howard@hhs.gov ; Jhamirah Howard, MPH., Office of the Assistant Secretary for Planning and Evaluation, Room 424E Humphrey Building, Department of Health and Human Services, 200 Independence Avenue SW, Washington, DC 20201.

FOR FURTHER INFORMATION CONTACT: Jhamirah Howard (202) 690-1721, jhamirah.howard@hhs.gov.

SUPPLEMENTARY INFORMATION: The Medicaid Reentry Act, Public Law 115-271, title IV, subtitle D, 132 Stat. 3965 (Oct. 24, 2018) (42 U.S.C. 1396a note) requires that the Secretary of Health and Human Services (HHS) establish the Medicaid Reentry Stakeholder Group. The Stakeholder Group is governed by provisions of Public Law 92-463 (5 U.S.C. App), which sets forth standards for the formation and use of advisory committees. The Secretary signed the charter establishing the Stakeholder Group on July 30, 2020. HHS is soliciting nominations for non-Federal members of the Stakeholder Group. Nominations should include the nominee's contact information (current mailing address, email address, and telephone number) and a current curriculum vitae or resume.

The Stakeholder Group will meet once, to develop best practices (and submit to the Secretary and Congress a report on such best practices) for States—(A) to ease the health care-related transition of an individual who is an inmate of a public institution from the public institution to the community, including best practices for ensuring continuity of health insurance coverage or coverage under the State Medicaid plan under title XIX of the Social Security Act, as applicable, and relevant social services; and (B) to carry out, with respect to such an individual, such health care-related transition not later than 30 days after such individual is released from the public institution.

The Stakeholder Group shall consist of at least 24 members: 2 shall be federal members, appointed by the Secretary or his designee. The federal members shall include designees from federal jail and prison systems, which includes the Federal Bureau of Prisons. Federal members will serve as regular government employees.

The Stakeholder Group shall also consist of 22 non-federal members who are representatives of managed care organizations, Medicaid beneficiaries, health care providers, the National Association of Medicaid Directors, state Medicaid agencies, and representatives from local and state prison systems, The Secretary shall appoint one of the members to serve as the Chair. Non-federal members will serve as Special Government Employees.

The Secretary, or his designee, shall appoint all members of the Stakeholder Group (both federal and non-federal), including one of the members to serve as the Chair. The federal and non-federal members shall be appointed to serve for the duration of the time that the Stakeholder Group is authorized to operate. Any member appointed to fill a vacancy for an unexpired term shall be appointed for the remainder of such term.

Brenda Destro,
Deputy Assistant Secretary for Planning and Evaluation (HSP).

[FR Doc. 2020-21591 Filed 9-30-20; 8:45 am]

BILLING CODE 4150-05-P